DEPARTMENT OF THE INTERIOR

Bureau of Land Management

[WY-920-09-1320-EL, WYW150970]

Coal Exploration License, WY

AGENCY: Bureau of Land Management, Interior.

ACTION: Notice of invitation for coal exploration license.

SUMMARY: Pursuant to section 2(b) of the Mineral Leasing Act of 1920, as amended by section 4 of the Federal Coal Leasing Amendments Act of 1976, 90 Stat. 1083, 30 U.S.A. 201(b), and to the regulations adopted as 43 CFR 3410, all interested parties are hereby invited to participate with Black Butte Coal Company on a pro rata cost sharing basis in its program for the exploration of coal deposits owned by the United States of America in the following-described lands in Sweetwater County, WY:

T. 17 N., R. 101 W., 6th P.M., Wyoming

Sec. 2: Lots 3 (NENW), 4 (NWNW), S2NW, SW;

Sec. 4: Lots 1-4 (N2N2), S2N2, S2;

Sec. 8: ALL;

Sec. 10: W2;

T. 18 N., R. 101 W., 6th P.M., Wyoming

Sec. 34: ALL.

Containing 2,559.480 acres, more or less.

All of the coal in the above-described land consists of unleased Federal coal within the Rock Springs Known Recoverable Coal Resource Area.

ADDRESSES: The proposed exploration program is fully described and will be conducted pursuant to an exploration plan to be approved by the BLM. Copies of the exploration plan are available for review during normal business hours in the following offices (serialized under number WYW150970): BLM, Wyoming State Office, 5353 Yellowstone Road, P.O. Box 1828, Cheyenne, WY 82003; and, BLM, Rock Springs Field Office, 280 Highway 191 North, Rock Springs, WY 82901.

SUPPLEMENTARY INFORMATION: This notice of invitation will be published in the “Rocket-Miner” of Rock Springs, WY, once each week for two consecutive weeks beginning the week of July 24, 2000, and in the Federal Register. Any party electing to participate in this exploration program must send written notice to both the Bureau of Land Management and Black Butte Coal Company no later than thirty days after publication of this invitation in the Federal Register. The written notice should be sent to the following addresses: Black Butte Coal Company, Attn: Pete Sall, P.O. Box 98, Point of Rocks, WY 82942, and the BLM, Wyoming State Office, Minerals and Lands Authorization Group, Attn: Julie Weaver, P.O. Box 1828, Cheyenne, WY 82003.

The foregoing is published in the Federal Register pursuant to 43 CFR 3410.2-1(c)(1).

Dated: July 17, 2000.
Pamela J. Lewis,
Chief, Leasable Minerals Section.

[FR Doc. 00-18487 Filed 7-26-00; 8:45 am]

BILLING CODE 4310-22-P